FEDERAL ELECTION COMMISSION

Sunshine Act Meeting

Agency: United States Election Assistance Commission.

* * * * *

Date and Time: Tuesday, March 23, 2004, at 10 A.M.

Place: 1201 Constitution Ave., NW., Washington, DC (EPA East Building, room 1153).

Status: This meeting will be open to the public.

Note: Early arrival: Those attending are advised to arrive early for registration and security check.

Purpose: Organizational plans for the newly established United States Election Assistance Commission.

* * * * *

Person to Contact for Information: Bryan Whitener, Telephone: (202) 694-1095.

DeForest B. Soaries, Jr.,
Chairman, United States Election Assistance Commission.

[FR Doc. 04-4809 Filed 3-1-04; 8:45 am]

BILLING CODE 6820-MP-M